SMALL BUSINESS ADMINISTRATION

National Regulatory Fairness Hearing; Office of the National Ombudsman

AGENCY: U.S. Small Business Administration (SBA).

ACTION: Notice of Hearing of the Regional Small Business Regulatory Fairness Boards.

SUMMARY: The SBA Office of the National Ombudsman is issuing this notice to announce the location, date, and time of the National Regulatory Fairness Hearing. This hearing is open to the public.

DATES: The meeting will be held on Monday, August 19, from 1:00-4:00 p.m.

ADDRESSES: The meeting will be at U.S. Small Business Administration, 409 3rd Street SW, Washington, DC 20416, at the concourse level in Eisenhower Halls A/B.

SUPPLEMENTARY INFORMATION: Pursuant to the Small Business Regulatory Enforcement Fairness Act (Pub. L. 104-121), Sec. 222, SBA announces the national hearing held by the Regional Small Business Regulatory Fairness Boards (Regional Regulatory Fairness Boards). The Regional Regulatory Fairness Boards are tasked to advise the National Ombudsman on matters of concern to small businesses relating to enforcement activities of agencies and to report on substantiated instances of excessive enforcement actions against small business concerns, including any findings or recommendations of the Board as to agency enforcement practice or policy.

FOR FURTHER INFORMATION CONTACT: The hearing is open to the public; however advance notice of attendance is requested. Anyone wishing to attend and/or make a presentation to the Regulatory Fairness Board must contact John Kelly, Case Management Specialist, by August 5, 2019, in writing at the Office of the National Ombudsman, 409 3rd Street SW, Washington, DC 20416, by phone (888) 734-3247, by fax (202) 481-5719 or email ombudsman-events@sba.gov in order to be placed on the agenda. Additionally, if you need accommodations because of a disability, translation services, or require additional information, please contact John Kelly as well. For more information on the Office of the National Ombudsman, please visit our website at www.sba.gov/ombudsman.

Dated: July 22, 2019.
Nicole Nelson,
SBA Acting Committee Management Officer.

[FR Doc. 2019-16468 Filed 8-1-19; 8:45 am]

BILLING CODE P